ENVIRONMENTAL PROTECTION AGENCY

[FRL-6718-7]

Proposed CERCLA Administrative Cost Recovery Settlement; West Site/Hows Corner Superfund Site, Plymouth, Maine

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative settlement for recovery of past response costs concerning the West Site/Hows Corner Superfund Site, Plymouth, Maine with the Hows Corner/West Site RI/FS PRP Group. The settlement provides a $300,000 credit towards settlement of past costs for the RI/FS PRP Group, in exchange for the PRP Group's performance of a Remedial Investigation/Feasibility Study at the Site. For thirty (30) days following the date of publication of this document, the United States Environmental Protection Agency will receive written comments relating to the settlement. The United States Environmental Protection Agency will consider all comments received and may modify or withdraw its consent to the settlement if comments received disclose facts or considerations which indicate that the settlement is inappropriate, improper, or inadequate. The United States Environmental Protection Agency's response to any comments received will be available for public inspection at U.S. Environmental Protection Agency, EPA-New England, One Congress Street, Suite 1100, Boston, MA 02114.

DATES: Comments must be submitted on or before July 19, 2000.

ADDRESSES: The proposed settlement is available for public inspection at U.S. Environmental Protection Agency, EPA-New England, One Congress Street, Suite 1100, Boston, MA 02114. A copy of the proposed settlement may be obtained from Barbara O'Toole, Responsible Party Coordinator, U.S. EPA, Region 1, One Congress Street, Suite 1100 (HBS), Boston, MA 02114, (617) 918-1408. Comments should reference the West Site/Hows Corner Superfund Site, Plymouth, Maine and EPA Docket No. CERCLA 1-2000-005 and should be addressed to Barbara O'Toole, Responsible Party Coordinator, U.S. EPA, EPA-New England, One Congress Street, Suite 1100 (HBS), Boston, MA 02114.

FOR FURTHER INFORMATION CONTACT: Barbara O'Toole, Responsible Party Coordinator, U.S. EPA, EPA-New England, One Congress Street, Suite 1100 (HBS), Boston, MA 02114, (617) 918-1408.

Dated: May 26, 2000.
Patricia L. Meaney,
Director, Office of Site Remediation and Restoration, EPA-New England.

[FR Doc. 00-15399 Filed 6-16-00; 8:45 am]

BILLING CODE 6560-50-P